NUCLEAR REGULATORY COMMISSION

[Docket Nos. 50-254 and 50-265; NRC-2016-0245]

Exelon Generation Company, LLC; Quad Cities Nuclear Power Station, Units 1 and 2

AGENCY: Nuclear Regulatory Commission.

ACTION: License amendment application; withdrawal by applicant.

SUMMARY: The U.S. Nuclear Regulatory Commission (NRC) has granted the request of Exelon Generation Company, LLC (the licensee), to withdraw its application dated October 20, 2016, for a proposed amendment to Renewed Facility Operating License Nos. DPR-29 and DPR-30, for Quad Cities Nuclear Power Station (QCNPS), Units 1 and 2, respectively. The proposed amendment request would support changes to the organization, staffing, and training requirements contained in Sections 1.0 and 5.0 of the Technical Specifications after the license no longer authorizes operation of the reactor or placement or retention of fuel in the reactor pressure vessel. This proposed amendment also supports implementation of the Certified Fuel Handler training program.

ADDRESSES: Please refer to Docket ID NRC-2016-0245 when contacting the NRC about the availability of information regarding this document. You may obtain publicly-available information related to this document using any of the following methods:

• Federal Rulemaking Web site: Go to http://www.regulations.gov and search for Docket ID NRC-2016-0245. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Eva A. Brown, Office of Nuclear Reactor Regulation, U.S. Nuclear Regulatory Commission, Washington, DC 20555-0001; telephone: 301-415-2315, email: Eva.Brown@nrc.gov.

SUPPLEMENTARY INFORMATION: The NRC has granted the request of Exelon Generation Company, LLC (the licensee), to withdraw its application dated October 20, 2016 (ADAMS Accession No. ML16294A203), for a proposed amendment to Renewed Facility Operating Licenses Nos. DPR-29 and DPR-30 for QCNPS, Units 1 and 2, respectively, located in Rock Island County, Illinois. The proposed amendment request would have supported changes to the organization, staffing, and training requirements contained in Sections 1.0 and 5.0 of the Technical Specifications after the licensee submitted both certifications in accordance with Title 10 of the Code of Federal Regulations, Part 50, Sections 82(a)(1)(i) and 82(a)(1)(ii). This proposed amendment also would have supported implementation of the Certified Fuel Handler training program. The Commission has previously issued a proposed finding that the amendments involve no significant hazards consideration published in the Federal Register on December 6, 2016 (81 FR 87970). However, by letter dated December 14, 2016 (ADAMS Accession No. ML16349A311), the licensee requested to withdraw the proposed amendment.

Dated at Rockville, Maryland, this 19th day of January 2017.
For the Nuclear Regulatory Commission.
Eva A. Brown,
Senior Project Manager, Special Projects and Process Branch, Division of Operating Reactor Licensing, Office of Nuclear Reactor Regulation.

[FR Doc. 2017-02127 Filed 1-31-17; 8:45 am]

BILLING CODE 7590-01-P